GENERAL SERVICES ADMINISTRATION

41 CFR Part 301-10

[FTR 2015-04; FTR Case 2010-307; Docket No. 2010-0020, Sequence No. 1]

Federal Travel Regulation (FTR); Removal of Privately Owned Vehicle Rates; Privately Owned Automobile Mileage Reimbursement When Government Furnished Automobiles Are Authorized; Correction

AGENCY: Office of Government-wide Policy (OGP), General Services Administration (GSA).

ACTION: Correcting amendment.

SUMMARY: This document makes an amendment to the Federal Travel Regulation (FTR) in order to make an editorial change.

DATES: Effective: July 2, 2015.

FOR FURTHER INFORMATION CONTACT: Mr. Cy Greenidge, Program Analyst, Office of Government-wide Policy, at 202-219-2349 or email at cy.greenidge@gsa.gov for clarification of content. For information pertaining to status or publication schedules, contact the Regulatory Secretariat at 202-501-4755. Please cite FTR Amendment 2015-04; FTR case 2010-307; Correction.

SUPPLEMENTARY INFORMATION: GSA published a final rule in the Federal Register at 75 FR 72965 on November 29, 2010, to update the FTR by removing the Privately Owned Vehicle (POV) rates from the text of the FTR and instead directing travelers to a Web site (at http://www.gsa.gov/ftr) with these rates. Inadvertently, the URL was not for the correct Web page. Therefore, GSA is issuing this amendment correction to the final rule to further amend the FTR by inserting the correct URL.

List of Subjects in 41 CFR Part 301-10

Administrative practices and procedures, Government employees, Travel and transportation expenses.

Dated: June 24, 2015.
Giancarlo Brizzi,
Acting Associate Administrator.

For the reasons set forth in the preamble, pursuant to 5 U.S.C. 5701-5707, GSA amends 41 CFR part 301-10 as set forth below:

PART 301-10—TRANSPORTATION EXPENSES

1. The authority citation for 41 CFR part 301-10 continues to read as follows:

Authority: 5 U.S.C. 5707; 40 U.S.C. 121(c); 49 U.S.C. 40118; OMB Circular No. A-126, revised May 22, 1992.

2. Amend § 301-10.310 by removing “http://www.gsa.gov/ftr” and adding “http://www.gsa.gov/ftrbulletins” in its place.

[FR Doc. 2015-16394 Filed 7-1-15; 8:45 am]

BILLING CODE 6820-14-P